DEPARTMENT OF JUSTICE

[OMB Number 1103-0118]

Agency Information Collection Activities; Proposed eCollection eComments Requested

AGENCY: Office of the Chief Information Officer, Department of Justice.

ACTION: 60-Day notice.

SUMMARY: The Department of Justice, Office of the Chief Information Officer, is submitting the following information collection request to the Office of Management and Budget (OMB) for review and approval in accordance with the Paperwork Reduction Act of 1995.

DATES: The Department of Justice encourages public comment and will accept input until May 14, 2021.

FOR FURTHER INFORMATION CONTACT: If you have additional comments especially on the estimated public burden or associated response time, suggestions, or need a copy of the proposed information collection instrument with instructions or additional information, please contact Jenna Dee, Project Manager, Justice Management Division, Office of the Chief Information Officer, 145 N Street NE, Room 3W 1405A, Washington, DC 20002 (Phone: 202-598-0345).

SUPPLEMENTARY INFORMATION: Written comments and suggestions from the public and affected agencies concerning the proposed collection of information are encouraged. Your comments should address one or more of the following four points:

—Evaluate whether the proposed collection of information is necessary for the proper performance of the functions of the Office of the Chief Information Officer, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension.

2. The Title of the Form/Collection: Tribal Access Program Application.

3. The agency form number, if any, and the applicable component of the Department sponsoring the collection: There is no agency form number for this collection. The applicable component within the Department of Justice is Office of the Chief Information Officer.

4. Affected public who will be asked or required to respond, as well as a brief abstract: Tribal Governments. The U.S. Department of Justice (DOJ) launched the Tribal Access Program for National Crime Information (TAP) provide tribes access to national crime information systems for both civil and criminal purposes. DOJ has developed an application for use by federally recognized tribes interested in participating in TAP.

5. An estimate of the total number of respondents and the amount of time estimated for an average respondent to respond: An estimated 50 respondents at 60 minutes each.

6. An estimate of the total public burden (in hours) associated with the collection: An estimated 50 burden hours.

If additional information is required contact: Melody Braswell, Department Clearance Officer, United States Department of Justice, Justice Management Division, Policy and Planning Staff, Two Constitution Square, 145 N Street NE, 3E.405A, Washington, DC 20530.

Dated: March 9, 2021.
Melody Braswell,
Department Clearance Officer for PRA, U.S. Department of Justice.

[FR Doc. 2021-05244 Filed 3-12-21; 8:45 am]

BILLING CODE 4410-ML-P